DEPARTMENT OF AGRICULTURE

Submission for OMB Review; Comment Request

June 23, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725 17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received by July 28, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business—Cooperative Service

TITLE: Bio-refinery Assistance Program for Guaranteed Loans.

OMB CONTROL NUMBER: 0570-0065.

SUMMARY OF COLLECTION: As authorized under the Agricultural Act of 2014 (2014 Farm Bill) the Bio-refinery Assistance Program will promote the development and construction of commercial-scale bio-refineries and the retrofitting of existing facilities using eligible technology. Consistent with Congressional intent, the program will promote the development of the first commercial scale bio-refineries that do not rely on corn kernel starch as the feedstock or standard biodiesel technology for the development of advanced biofuels, giving preference to projects where first-of-a-kind technology will be deployed at viable commercial-scale bio-refineries.

NEED AND USE OF THE INFORMATION: The Agency will use various forms and written evidence to collect needed information to determine lender and borrower eligibility for loan guarantees, and to ensure the lender protects the government's financial interests. Lenders provide the Agency with quarterly construction progress reports demonstrating that engineering and financial criteria used in the review and approval of the application continue to be met during the construction phase of the project. Post-construction information will be collected demonstrating that the bio-refineries are operating and meeting all financial criteria projected during the application phase. If the information were not collected, the Agency would not be able to make prudent credit decisions nor monitor the lenders servicing activities.

DESCRIPTION OF RESPONDENTS: Business or other for-profit.

NUMBER OF RESPONDENTS: 83.

FREQUENCY OF RESPONSES: Recordkeeping; Reporting: On occasion; Monthly; Semi-annually; Annually.

TOTAL BURDEN HOURS: 6,349.

TITLE: Repowering Assistance Program, 7 CFR 4288-A.

OMB CONTROL NUMBER: 0570-0066.

SUMMARY OF COLLECTION: The Repowering Assistance Program is authorized under section 9004 of the Food, Conservation, and Energy Act of 2008 (Pub. L. 110-246). The objective of this program is to provide financial incentives to bio-refineries in existence on the date of the enactment of the 2008 Farm Bill; to replace the use of fossil fuels used to produce heat or power at their facilities by installing new systems that use renewable biomass, or to produce new energy from renewable biomass.

NEED AND USE OF THE INFORMATION: Information gathered under this collection will be used to determine the eligibility of bio-refineries to participate in the program. The Agency will determine the amount of payments to be made to a bio-refinery under this program with consideration given to: (1) The quantity of fossil fuel a renewable biomass system is replacing; (2) the percentage reduction in fossil fuel used by the bio-refinery that will result from the installation of the renewable biomass system; and (3) the cost-effectiveness of the renewable biomass system.

DESCRIPTION OF RESPONDENTS: Business or other for-profit.

NUMBER OF RESPONDENTS: 7.

FREQUENCY OF RESPONSES: Recordkeeping; Reporting: On occasion; Monthly; Semi-annually; Annually.

TOTAL BURDEN HOURS: 602.

Charlene Parker,
Departmental Information Collection Clearance Officer.

[FR Doc. 2014-15023 Filed 6-25-14; 8:45 am]

BILLING CODE 3410-XY-P